HEALTH AND HUMAN SERVICES DEPARTMENT

Food and Drug Administration

21 CFR Part 516

New Animal Drugs for Minor Use and Minor Species

CFR Correction

In Title 21 of the Code of Federal Regulations, Parts 500 to 599, revised as of April 1, 2011, on page 96, in § 516.20, (b)(2) is revised to read as follows:

§ 516.20 Content and format of a request for MUMS-drug designation.

* * * * *

(b) * * *

(2) The name and address of the sponsor; the name of the sponsor's primary contact person and/or permanent-resident U.S. agent including title, address, and telephone number; the established name (and proprietary name, if any) of the active pharmaceutical ingredient of the drug; and the name and address of the source of the active pharmaceutical ingredient of the drug.

* * * * *

[FR Doc. 2012-7532 Filed 3-27-12; 8:45 am]

BILLING CODE 1505-01-D